FEDERAL COMMUNICATIONS COMMISSION

Information Collection Being Reviewed by the Federal Communications Commission Under Delegated Authority

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before October 22, 2013. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov. To submit your PRA comments by email send them to: PRA@fcc.gov.

FOR FURTHER INFORMATION CONTACT: Judith B. Herman, FCC, Office of Managing Director, (202) 418-0214.

SUPPLEMENTARY INFORMATION: OMB Control Number: 3060-1060.

Title: Wireless E911 Coordination Initiative Letter to State 911 Coordinators.

Form Number: N/A.

Type of Review: Extension of a currently approved collection.

Respondents: State, local and tribal government.

Number of Respondents: 50 respondents; 50 responses.

Estimated Time per Response: .75 hours.

Frequency of Response: On occasion reporting requirement.

Obligation To Respond: Voluntary. Statutory authority for this information collection is contained in 47 U.S.C. sections 1 and 4(i) of the Communications Act of 1934, as amended.

Total Annual Burden: 38 hours.

Total Annual Cost: N/A.

Privacy Impact Assessment: N/A.

Nature and Extent of Confidentiality: There are no questions of a confidential nature.

Needs and Uses: The Commission will be submitting this expiring information collection to the Office of Management and Budget (OMB) for approval of an extension request (no change in the public reporting requirement).

The Commission has compiled and maintains a database of Public Safety Answering Points (PSAPs) throughout the nation as part of its efforts to support implementation of E911 across the nation. The information sought in this information collection is needed to enable the FCC to ensure that commercial service providers have an accurate inventory of E911 PSAPs.

In order to populate the database with accurate information, the Commission periodically sends out letters to state officials requesting specific data:

(1) The number and location of the PSAP;

(2) The contact information for each PSAP;

(3) An assessment of each PSAPs state of readiness to accept wireless E911 location information; and

(4) A statement of whether each PSAP has requested Phase I and/or Phase II E911 service.

The Commission's Public Safety and Homeland Security Bureau seeks the information to verify the accuracy of the information in the PSAP database by obtaining information for data elements that it has recently found to be missing or to have been accurately include in the initial PSAP database supplied to the Commission. Corrected information and additional evaluative information may be needed on a highest priority basis to ensure the integrity of the database.

OMB Control Number: 3060-1110.

Title: Sunset of the Cellular Radiotelephone Service Analog Service Requirements and Related Matters.

Form Number: N/A.

Type of Review: Extension of a currently approved collection.

Respondents: Business or other for-profit entities, not-for-profit institutions, and state, local or tribal government.

Number of Respondents: 117 respondents; 117 responses.

Estimated Time per Response: 24 hours.

Frequency of Response: On occasion reporting requirement.

Obligation To Respond: Mandatory. Statutory authority for this information collection is contained in 47 U.S.C. sections 154(i), 201 and 303(r) as amended by the Communications Act of 1934, as amended.

Total Annual Burden: 2,808 hours.

Total Annual Cost: N/A.

Privacy Impact Assessment: N/A.

Nature and Extent of Confidentiality: No questions of a confidential nature are asked.

Needs and Uses: The Commission will be submitting this expiring information collection to the Office of Management and Budget (OMB) for approval of an extension request (no change in the reporting requirement).

In a Memorandum Opinion and Order (MO&O), FCC 07-103, the Commission denied a petition for rulemaking to extend the requirement that all cellular radiotelephone licensees provide analog service to subscribers and roamers whose equipment conforms to the Advanced Mobile Phone Service (AMPS) standard. This requirement sunset on February 29, 2008. In the MO&O, the Commission also directed cellular radiotelephone service licensees to notify their remaining analog subscribers of the sunset date and of their intention to discontinue AMPS-compatible analog service at least four months before such discontinuance, and a second time, at least 30 days before such discontinuance (the “consumer-notice requirement”).

The consumer-notice requirement will ensure that the remaining analog cellular service subscribers, including persons with hearing disabilities, are fully apprised of the sunset of the analog cellular service requirement.

OMB Control Number: 3060-1000.

Title: Section 87.147, Authorization of Equipment.

Form Number: N/A.

Type of Review: Extension of a currently approved collection.

Respondents: Business or other for-profit entities.

Number of Respondents: 25 respondents; 25 responses.

Estimated Time per Response: 1 hour.

Frequency of Response: One time and occasion reporting requirements and third party disclosure requirement.

Obligation To Respond: Required to obtain or retain benefits. Statutory authority for this information collection is contained in 47 U.S.C. sections 154, 303 and 307(e) of the Communications Act of 1934, as amended.

Total Annual Burden: 25 hours.

Total Annual Cost: N/A.

Privacy Impact Assessment: N/A.

Nature and Extent of Confidentiality: There is no need for confidentiality.

Needs and Uses: The Commission will be submitting this expiring information collection to the Office of Management and Budget (OMB) for approval of an extension request (no change in the reporting and/or third party disclosure requirements). There is no change in the Commission's burden estimates.

Section 87.147 requires that an applicant for certification of equipment intended for transmission in any of the frequency bands listed in paragraph (d)(3) of this rule section must notify the Federal Aviation Administration (FAA) of the filing of a certification application. The letter of notification must be mailed to the FAA. The certification must include a copy of the notification letter to the FAA, as well as, a copy of the FAA's subsequent determination of the equipment's compatibility the National Airspace System (NAS).

Federal Communications Commission.
Gloria J. Miles,
Federal Register Liaison, Office of the Secretary, Office of Managing Director.

[FR Doc. 2013-20566 Filed 8-22-13; 8:45 am]

BILLING CODE 6712-01-P